DEPARTMENT OF AGRICULTURE

Grain Inspection, Packers and Stockyards Administration

Proposed Posting, Posting, and Deposting of Stockyards

AGENCY: Grain Inspection, Packers and Stockyards Administration, USDA.

ACTION: Notice and request for comments.

SUMMARY: The Grain Inspection, Packers and Stockyards Administration (GIPSA) is taking several actions to post and depost stockyards under the Packers and Stockyards Act (P&S Act). Specifically, we are proposing that eight stockyards now operating subject to the P&S Act be posted. We are posting 20 stockyards that were identified previously as operating subject to the P&S Act. Finally, we are deposting 34 stockyards that can no longer be used as stockyards.

DATES: For the proposed posting of stockyards, we will consider comments that we receive by February 10, 2010.

For the deposted stockyards, the deposting is effective on January 26, 2010.

ADDRESSES: We invite you to submit comments on this notice. You may submit comments by any of the following methods:

• E-Mail: comments.gipsa@usda.gov.

• Mail: H. Tess Butler, GIPSA, USDA, 1400 Independence Avenue, SW., Room 1654-S, Washington, DC 20250-3604.

• Fax: (202) 690-2173.

• Hand Delivery or Courier: H. Tess Butler, GIPSA, USDA, 1400 Independence Avenue, SW., Room 1643-S, Washington, DC 20250-3604.

• Internet: Go to http://www.regulations.gov. Follow the on-line instructions for submitting comments.

FOR FURTHER INFORMATION CONTACT: S. Brett Offutt, Director, Policy and Litigation Division, e-mail: S.Brett.Offutt@usda.gov or fax: (202) 690-3207.

SUPPLEMENTARY INFORMATION: The Grain Inspection, Packers and Stockyards Administration (GIPSA) administers and enforces the P&S Act, (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows: “* * * any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302 (b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary deposts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act, and therefore cannot be posted. A posted stockyard can be deposted, which occurs when the facility is no longer used as a stockyard.

We are hereby notifying stockyard owners and the public that the following eight stockyards meet the definition of a stockyard, and that we propose to designate these stockyards as posted stockyards.

Proposed facility No. | Stockyard name and location
CA-193 | Westside Auction Yard, Newman, California.
AZ-117 | Robertson Horse Sales, Benson, Arizona.
IA-263 | Clarke's Auctioneering, Chariton, Iowa.
KY-185 | Bluegrass Sales Stables, LLC, Elkton, Kentucky.
ME-106 | Clark's Auction Company, Skowhegan, Maine.
OK-216 | Alva Livestock Market, Alva Oklahoma.
TX-356 | Corsicana Livestock Auction, Inc., Corsicana, Texas.
WI-151 | Turenne Livestock Market, Thorpe, Wisconsin.

We are also notifying the public that the stockyards listed in the following table meet the P& S Act's definition of a stockyard and that we have posted the stockyards. On April 20, 2009, we published a notice in the Federal Register (74 FR 17945-17947) of our proposal to post these 20 stockyards. Since we received no comments to our proposal, we assigned the stockyards a facility number and notified the owner of the stockyard facilities. Posting notices were sent to the owner of the stockyard to display in public areas of the stockyard. The table below reflects the date of posting for each stockyard.

Facility No. | Stockyard name and location | Date of posting
AL-197 | Screamer 5L Auction, Abberville, Alabama | June 1, 2009.
KS-209 | Lyon County Livestock Sales & Services, LLC, dba Admire Livestock Auction, Admire, Kansas | June 3, 2009.
KY-182 | Cattlemen's Livestock Market, LLC, Rockfield, Kentucky | June 2, 2009.
KY-183 | Mill's 31-E Auction Center, Scottsville, Kentucky | June 10, 2009.
KY-184 | Blue Grass South Livestock Market, LLC, Stanford, Kentucky |
MI-151 | Tom Moore Sales, Onsted, Michigan | May 30, 2009.
MI-152 | United Producers, Inc., St. Louis, Michigan | June 1, 2009.
MI-153 | United Producers, Inc., Manchester, Michigan | June 2, 2009.
MI-154 | United Producers, Inc., Cass City, Michigan | June 2, 2009.
NC-179 | Edward Johnson Auctioneers, Inc., dba Johnson's Cattle Auction, Canton, North Carolina | June 6, 2009.
NM-124 | Cow House Auction, Kirtland, New Mexico | June 10, 2009.
OH-153 | Larue Horse Sale, LLC, LaRue, Ohio | May 29, 2009.
OK-215 | Old Goat Enterprises, LLC, dba Countryside Auction, Chandler, Oklahoma | June 9, 2009.
TN-200 | Longhorn Auction Company and Livestock Sales, Mountain City, Tennessee | June 10, 2009.
TN-201 | James Linville, dba Scotts Hill Stockyard, Scotts Hill, Tennessee | June 1, 2009.
TN-202 | Tennessee Livestock Producers, Inc., Columbia, Tennessee | June 10, 2009.
TX-352 | Texas Cattle Exchange, Inc., Eastland, Texas | June 1, 2009.
TX-353 | Elkhart Horse Center, Elkhart, Texas | June 5, 2009.
TX-354 | Marion County Stockyards, Jefferson, Texas | June 10, 2009.
VA-164 | Victoria Livestock Market, Victoria, Virginia | June 10, 2009.

Finally, we are notifying the public that the following 34 stockyards no longer meet the definition of a stockyard and that they are being deposted. We depost stockyards when the facility can no longer be used as a stockyard. The reasons a facility can no longer be used as a stockyard may include the following: (1) The market agency has moved and the posted facility is abandoned; (2) the facility has been torn down or otherwise destroyed, such as by fire; (3) the facility is dilapidated beyond repair; or (4) the facility has been converted and its function has changed.

Facility No. | Stockyard name and location | Date posted
AR-103 | Batesville Stockyards, Inc., Batesville, Arkansas | June 28, 1957.
AR-177 | Morrilton Horse Sale, Morrilton, Arkansas | April 17, 2006.
CO-148 | Valley Livestock Auction Co., Inc., Fruita, Colorado | June 1, 1978.
CO-152 | Mountain States Livestock Marketing, Inc., Silt, Colorado | February 25, 1986.
FL-100 | Arcadia State Livestock Market, Inc. | February 26, 1960.
FL-102 | Neel Cattle, Inc. | March 7, 1960.
FL-112 | Northwest Florida Livestock Market, Inc. | March 1, 1960.
FL-120 | Cattlemen's Livestock Auction Market | February 25, 1960.
KS-105 | Beloit Livestock Auction, Beloit, Kansas | March 29, 1950.
KS-106 | Coffey County Livestock Market, Inc., Burlington, Kansas | June 16, 1959.
KS-109 | Chanute Regional Stockyards, Inc., Chanute, Kansas | May 26, 1959.
KS-144 | Hoxie Livestock Market, Hoxie, Kansas | March 22, 1965.
LA-111 | Livestock Producers, Inc., Bossier City, Louisiana | January 20, 1959.
LA-118 | Livestock Producers, Inc., Homer, Louisiana | March 9, 1957.
LA-145 | Stanley Brothers Livestock, Inc., Bastrop, Louisiana | August 22, 1994.
MO-196 | United Producers, Inc., Sedalia, Missouri | June 8, 1959.
MO-242 | United Producers, Inc., Buffalo, Missouri | December 15, 1977.
NM-103 | Twin Heart Ranch, Inc., dba San Juan Livestock, Aztec, New Mexico | March 28, 1966.
OK-135 | Hennessey Livestock Auction, LLC, Hennessey, Oklahoma | March 25, 1969.
OR-123 | Bever Livestock Auction, Bever, Oregon | September 20, 1960.
PA-106 | Chambersburg Livestock Sales, Inc., Chambersburg, Pennsylvania | December 3, 1959.
PA-125 | Lancaster Stockyards, Inc., Lancaster, Pennsylvania | November 1, 1921.
PA-137 | Quakertown Livestock Sales, Inc., Quakertown, Pennsylvania | November 18, 1959.
PA-140 | Isennock Auction Services, Inc., New Park, Pennsylvania | October 14, 1964.
PA-146 | Thomasville Livestock Market, Inc., York, Pennsylvania | December 2, 1959.
PA-150 | Sarah E. Fisher's Sale, York Springs, Pennsylvania | November 21, 1975.
PA-153 | Green Acres Enterprise, Inc., Rossiter, Pennsylvania | March 29, 1986.
TN-110 | Southern Livestock & Auction Company, Columbia, Tennessee | August 30, 1961.
TN-152 | Paris Livestock Sales, Paris, Tennessee | May 26, 1959.
TX-114 | Belton Livestock Auction, Belton, Texas | September 10, 1963.
TX-116 | Blanco Livestock Commission Company, Blanco, Texas | August 18, 1961.
TX-157 | Eastland Auction Co., Eastland, Texas | November 30, 1956.
TX-242 | Paris Livestock Commission Company, Inc., Paris, Texas | November 20, 1956.
TX-253 | Union Stock Yards, San Antonio, Texas | November 1, 1921.

Effective Date

These depostings are effective upon publication in the Federal Register because they relieve a restriction and, therefore, may be made effective in less than 30 days after publication in the Federal Register without prior notice or other public procedure.

Authority: 7 U.S.C. 202.

J. Dudley Butler,
Administrator, Grain Inspection, Packers and Stockyards Administration.

[FR Doc. 2010-1498 Filed 1-25-10; 8:45 am]

BILLING CODE 3410-KD-P